DEPARTMENT OF THE INTERIOR

National Park Service

[NPS-WASO-NAGPRA-NPS0034498; PPWOCRADN0-PCU00RP14.R50000]

Notice of Inventory Completion: University of Missouri, Museum of Anthropology, Columbia, MO

AGENCY: National Park Service, Interior.

ACTION: Notice.

SUMMARY: In accordance with the Native American Graves Protection and Repatriation Act (NAGPRA), the University of Missouri, Museum of Anthropology has completed an inventory of human remains and associated funerary objects and has determined that there is a cultural affiliation between the human remains and associated funerary objects and Indian Tribes or Native Hawaiian organizations in this notice. The human remains and associated funerary objects were removed from Tupelo in Lee County, MS.

DATES: Repatriation of the human remains and associated funerary objects in this notice may occur on or after October 14, 2022.

ADDRESSES: Dr. Candace Sall, Director; Museum of Anthropology, University of Missouri, 101 Museum Support Center, Columbia, MO 65211, telephone (573) 882-3764, email nagpra@missouri.edu.

SUPPLEMENTARY INFORMATION: This notice is published as part of the National Park Service's administrative responsibilities under NAGPRA. The determinations in this notice are the sole responsibility of the University of Missouri, Museum of Anthropology. The National Park Service is not responsible for the determinations in this notice. Additional information on the determinations in this notice, including the results of consultation, can be found in the inventory or related records held by the University of Missouri, Museum of Anthropology.

Description

In 1960 and 1961, human remains representing, at minimum, one individual were removed from the surface of a washed-out burial labeled Site 2, Chickasaw Old Village, near Highway 78 North in Lee County, MS, by William Philyaw. The individual is of unknown age and sex and is from the “washed out area” of the site at that time. The human remains and associated funerary objects remained in Philyaw's custody until his son, William Philyaw Jr., donated the collection to the Museum of Anthropology in 2018. No known individual was identified. The 207 associated funerary objects are one iron gun part, one iron fragment, two copper gun parts, two copper fragments, two copper tinklers, two miscellaneous metal fragments, three metal musket balls, one copper “S” hook, 26 brass buttons, six gun flints, three glass bottle fragments, seven small blue beads, one large blue bead, 18 small black beads, 16 small white beads, 64 iron fragments, one gun barrel, five copper fragments, one gun flint, eight glass fragments, 13 pottery fragments, three soapstone pipe fragments, six projectile points, nine hafted bifaces, four drills, one hammerstone, and one nutting stone.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological information, biological information, and geographical information.

Determinations

Pursuant to NAGPRA and its implementing regulations, and after consultation with the appropriate Indian Tribes and Native Hawaiian organizations, the University of Missouri, Museum of Anthropology has determined that:

• The human remains described in this notice represent the physical remains of one individual of Native American ancestry.

• The 207 objects described in this notice are reasonably believed to have been placed with or near individual human remains at the time of death or later as part of the death rite or ceremony.

• There is a relationship of shared group identity that can be reasonably traced between the human remains and associated funerary objects described in this notice and The Chickasaw Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after October 14, 2022. If competing requests for repatriation are received, the University of Missouri, Museum of Anthropology must determine the most appropriate requestor prior to repatriation. Requests for joint repatriation of the human remains and associated funerary objects are considered a single request and not competing requests. The University of Missouri, Museum of Anthropology is responsible for sending a copy of this notice to the Indian Tribes and Native Hawaiian organizations identified in this notice.

Authority: Native American Graves Protection and Repatriation Act, 25 U.S.C. 3003, and the implementing regulations, 43 CFR 10.9, § 10.10, and § 10.14.

Dated: September 1, 2022.
Melanie O'Brien,
Manager, National NAGPRA Program.

[FR Doc. 2022-19830 Filed 9-13-22; 8:45 am]

BILLING CODE 4312-52-P